NATIONAL SCIENCE FOUNDATION

Notice of Permit Applications Received Under the Antarctic Conservation Act of 1978

AGENCY: National Science Foundation.

ACTION: Notice of permit applications received under the Antarctic Conservation Act of 1978, Public Law 95-541.

SUMMARY: The National Science Foundation (NSF) is required to publish a notice of permit applications received to conduct activities regulated under the Antarctic Conservation Act of 1978. NSF has published regulations under the Antarctic Conservation Act at title 45 part 670 of the Code of Federal Regulations. This is the required notice of permit applications received.

DATES: Interested parties are invited to submit written data, comments, or views with respect to this permit application by February 8, 2016. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Nature McGinn, ACA Permit Officer, at the above address or ACApermits@nsf.gov.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

1. Applicant Permit Application: 2016-018

Michael Gooseff, INSTAAR, 1560 30th Street, Boulder, CO 80309

Activity for Which Permit Is Requested

Enter Antarctic Specially Protected Areas. The applicant plans to enter Canada Glacier, Lake Fryxell, to continue operation of a previously installed, continuously recording stream gauge station, perform maintenance, conduct stream flow measurements and collect water quality samples near the stream gauge site. The applicant will also collect water quality samples of the melt-water of the Canada Glacier and along the length of the stream to study in-stream biogeochemical processes. The applicant plans to collect a maximum of five moss samples per year using a 3 cm corer to a depth of about 3 cm and a maximum of five soil samples of approximately 200 g per year from which to extract nematodes. Photography, LIDAR, and other survey and monitoring techniques may be used to detect changes in the stream bed and algal mat distribution over time, and/or to monitor the change in the stream gauge system through time.

The applicant also plans to enter Lower Taylor Glacier and Blood Falls to continue measurements of the Santa Fe Stream including: Stream-flow using velocity meters; pH, temperature, and conductivity via meters; and collection of water quality samples. The collection of water from the Blood Falls area occurs on the glacial moraine, not the glacier itself, and the sample is small (< 1 L) and comprised of both brine reservoir discharge (when present) and surface ice melt-water.

Location

ASPA no. 131, Canada Glacier, Lake Fryxell, Taylor Valley, Victoria Land; ASPA No. 172, Lower Taylor Glacier and Blood Falls, Taylor Valley, McMurdo Dry Valleys, Victoria Land.

Dates

February 29, 2016 to February 28, 2021.

Nadene G. Kennedy,
Polar Coordination Specialist, Division of Polar Programs.

[FR Doc. 2016-00085 Filed 1-7-16; 8:45 am]

BILLING CODE 7555-01-P